DEPARTMENT OF COMMERCE

International Trade Administration

(A-351-840)

Notice of Final Results of Antidumping Duty Changed Circumstances Review: Certain Orange Juice from Brazil

AGENCY: Import Administration, International Trade Administration, Department of Commerce.

SUMMARY: The Department of Commerce (the Department) has determined, pursuant to section 751(b) of the Tariff Act of 1930, as amended (the Act), that Fischer S.A. Comecio, Industria, and Agricultura (Fischer Comercio) is the successor-in-interest to Fischer S/A Agroindustria (Fischer Agroindustria). Thus, we find that Fischer Comercio should receive the same antidumping duty cash deposit rate (i.e., 12.46 percent) with respect to the subject merchandise as Fischer Agroindustria, its predecessor company, as of the date of publication of this notice in the Federal Register.

EFFECTIVE DATE: (October 22, 2007.

FOR FURTHER INFORMATION CONTACT: Elizabeth Eastwood, AD/CVD Operations, Office 2, Import Administration, International Trade Administration, U.S. Department of Commerce, 14th Street and Constitution Avenue, NW, Washington, DC 20230; telephone (202) 482-3874.

SUPPLEMENTARY INFORMATION:

Background

On September 11, 2007, the Department initiated this changed circumstances review based on a request from Fischer Agroindustria and simultaneously issued its preliminary results that Fischer Comercio is the successor-in-interest to Fischer Agroindustria and should receive Fischer Agroindustria's cash deposit rate of 12.46 percent. See Notice of Initiation and Preliminary Results of Antidumping Duty Changed Circumstances Review: Certain Orange Juice from Brazil, 72 FR 51798 (Sept. 11, 2007) (Initiation and Preliminary Results). In the Initiation and Preliminary Results, we stated that interested parties could request a hearing or submit case briefs and/or written comments to the Department no later than 30 days after publication of the Initiation and Preliminary Results notice in the Federal Register, and submit rebuttal briefs, limited to the issues raised in those case briefs, seven days subsequent to the due date of the case briefs. We did not receive any hearing requests or comments on the Initiation and Preliminary Results.

Scope of the Order

The scope of this order includes certain orange juice for transport and/or further manufacturing, produced in two different forms: (1) frozen orange juice in a highly concentrated form, sometimes referred to as FCOJM; and (2) pasteurized single-strength orange juice which has not been concentrated, referred to as NFC. At the time of the filing of the petition, there was an existing antidumping duty order on frozen concentrated orange juice (FCOJ) from Brazil. See Antidumping Duty Order; Frozen Concentrated Orange Juice from Brazil, 52 FR 16426 (May 5, 1987). Therefore, the scope of this order with regard to FCOJM covers only FCOJM produced and/or exported by those companies which were excluded or revoked from the pre-existing antidumping order on FCOJ from Brazil as of December 27, 2004. Those companies are Cargill Citrus Limitada (Cargill), Coinbra-Frutesp S.A. (Coinbra-Frutesp), Sucocitrico Cutrale, S.A. (Cutrale), Fischer Agroindustria, and Montecitrus Trading S.A. (Montecitrus).

Excluded from the scope of the order are reconstituted orange juice and frozen concentrated orange juice for retail (FCOJR). Reconstituted orange juice is produced through further manufacture of FCOJM, by adding water, oils and essences to the orange juice concentrate. FCOJR is concentrated orange juice, typically at 42[deg] Brix, in a frozen state, packed in retail-sized containers ready for sale to consumers. FCOJR, a finished consumer product, is produced through further manufacture of FCOJM, a bulk manufacturer's product. The subject merchandise is currently classifiable under subheadings 2009.11.00, 2009.12.25, 2009.12.45, and 2009.19.00 of the Harmonized Tariff Schedule of the United States (HTSUS). These HTSUS subheadings are provided for convenience and for customs purposes only and are not dispositive. Rather, the written description of the scope of this order is dispositive.

Final Results of Changed Circumstances Review

Based on the information provided by Fischer Agroindustria, and the fact that the Department did not receive any comments during the comment period following the preliminary results of this review, the Department confirms its preliminary determination that Fischer Comercio is the successor-in-interest to Fischer Agroindustria for antidumping duty cash deposit purposes.

Instructions to U.S. Customs and Border Protection (CBP)

The Department will instruct CBP to suspend liquidation of all shipments of the subject merchandise produced and exported by Fischer Comercio entered, or withdrawn from warehouse, for consumption, on or after the publication date of this notice at 12.46 percent (i.e., Fischer Agroindustria's cash deposit rate). This deposit rate shall remain in effect until publication of the final results of the ongoing administrative review, in which Fischer Comercio/Fischer Agroindustria is participating.

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b) and 777(i)(1) of the Act, and section 351.216(e) of the Department's regulations.

Dated: October 16, 2007.
David M. Spooner,
Assistant Secretary for Import Administration.

[FR Doc. E7-20751 Filed 10-19-07; 8:45 am]

BILLING CODE 3510-DS-S